DEPARTMENT OF LABOR

Bureau of Labor Statistics

Proposed Collection, Comment Request

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. The Bureau of Labor Statistics (BLS) is soliciting comments concerning the proposed request for a new OMB control number for the “Leave Supplement to the American Time Use Survey.” A copy of the proposed information collection request (ICR) can be obtained by contacting the individual listed below in the ADDRESSES section of this notice.

DATES: Written comments must be submitted to the office listed in the ADDRESSES section of this notice on or before September 26, 2016.

ADDRESSES: Send comments to Erin Good, BLS Clearance Officer, Division of Management Systems, Bureau of Labor Statistics, Room 4080, 2 Massachusetts Avenue NE., Washington, DC 20212. Written comments also may be transmitted by fax to 202-691-5111 (this is not a toll free number).

FOR FURTHER INFORMATION CONTACT: Erin Good, BLS Clearance Officer, at 202-691-7763 (this is not a toll free number). (See ADDRESSES section.)

SUPPLEMENTARY INFORMATION:

I. Background

The American Time Use Survey (ATUS) is the Nation's first federally administered, continuous survey on time use in the United States. It measures, for example, time spent with children, working, sleeping, or doing leisure activities. In the United States, several existing Federal surveys collect income and wage data for individuals and families, and analysts often use such measures of material prosperity as proxies for quality of life. Time-use data substantially augment these quality-of-life measures. The data also can be used in conjunction with wage data to evaluate the contribution of non-market work to national economies. This enables comparisons of production between nations that have different mixes of market and non-market activities.

The ATUS is used to develop nationally representative estimates of how people spend their time. This is done by collecting a time diary about the activities survey respondents did over a 24-hour period “yesterday,” from 4 a.m. on the day before the interview until 4 a.m. on the day of the interview. In the one-time interview, respondents also report who was with them during the activities, where they were, how long each activity lasted, and if they were paid. All of this information has numerous practical applications for sociologists, economists, educators, government policymakers, businesspersons, health researchers, and others.

The Leave Supplement supports the mission of the Bureau of Labor Statistics by providing relevant information on economic and social issues. The data from the proposed Leave Supplement can be used for research on the relationships between work schedules, job flexibilities, access to leave, and time use. These data enhance the understanding of peoples' overall well-being. The Supplement surveys employed wage and salary workers, except those who are self-employed, aged 15 and up from a nationally representative sample of approximately 2,100 sample households each month.

The proposed Leave Supplement will collect data about workers' access to and use of paid and unpaid leave, job flexibility, and their work schedules. The collection of the Leave Supplement in 2017 is the second effort to gather data on workers' access to paid and unpaid leave. A Leave Supplement similar to the one being proposed was attached to the ATUS in 2011 and collected under the ATUS OMB Number 1220-0175. The proposed 2017 Leave Supplement includes several questions that were not included in the 2011 Supplement. This includes questions about shift work, advance notice of work schedules, workers' control over their schedules, flexible start and stop times, and work at home arrangements. These questions will provide an additional dimension to analyses of workers' job flexibility data.

II. Current Action

Office of Management and Budget clearance for a new OMB control number is being sought for the Leave Supplement to the American Time Use Survey.

Data about leave currently are available from the BLS National Compensation Survey, but these data are collected from establishments and do not include information about workers' demographic and household characteristics. The proposed questions will provide information about workers' access to leave from workers' perspectives and by various characteristics such as their sex, ethnicity, race, and the presence and age of children in the household. The BLS National Longitudinal Survey collects some information about leave from employed individuals, but these data are available only for specific cohorts and not the entire population.

Information about flexible work schedules is available through the CPS Work Schedules and Work at Home Supplement, but the Supplement has not been conducted since May 2004. The proposed Leave Supplement questions will collect data about leave, job flexibilities, and work schedules from a sample of individuals who are representative of the U.S. civilian noninstitutional population ages 15 and over, which is something existing surveys do not do.

Desired Focus of Comments

The Bureau of Labor Statistics is particularly interested in comments that:

• Evaluate whether the proposed collection of information is necessary for the proper performance of the functions of the agency, including whether the information will have practical utility.

• Evaluate the accuracy of the agency's estimate of the burden of the proposed collection of information, including the validity of the methodology and assumptions used.

• Enhance the quality, utility, and clarity of the information to be collected.

• Minimize the burden of the collection of information on those who are to respond, including through the use of appropriate automated, electronic, mechanical, or other technological collection techniques or other forms of information technology, e.g., permitting electronic submissions of responses.

Type of Review: New collection (Request for a new OMB control Number).

Agency: Bureau of Labor Statistics.

Title: Leave Supplement to the American Time Use Survey.

OMB Number: 1220—NEW.

Affected Public: Individuals or Households.

Total Respondents: 5950.

Frequency: One time.

Total Responses: 5950.

Average Time per Response: 5 minutes.

Estimated Total Burden Hours: 500 hours.

Total Burden Cost (capital/startup): $0.

Total Burden Cost (operating/maintenance): $0.

Comments submitted in response to this notice will be summarized and/or included in the request for Office of Management and Budget approval of the information collection request; they also will become a matter of public record.

Signed at Washington, DC, this 21st day of July 2016.
Kimberley Hill,
Chief, Division of Management Systems, Bureau of Labor Statistics.

[FR Doc. 2016-17641 Filed 7-25-16; 8:45 am]

BILLING CODE 4510-24-P